DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 17, 2009. Address written comments to Statutory Import Programs Staff, Room 3720, U.S. Department of Commerce, Washington, D.C. 20230. Applications may be examined between 8:30 a.m. and 5 p.m. at the U.S. Department of Commerce in Room 3720.

Docket Number: 09-047. Applicant: Washington State University, P.O. Box 641020, Pullman, WA 99164. Instrument: Electron Microscope. Manufacturer: FEI Company, Czech Republic. Intended Use: The instrument will be used to study bulk amorphous metal alloys, nano-particle ceramics, nano-particle metals, polymer matrices and ceramic matrices. The instrument will be used to measure the thickness of deposited coatings at 1.0 nm resolution. Justification for Duty-Free Entry: No instruments of same general category are manufactured in the United States. Application accepted by Commissioner of Customs: July 31, 2009.

Dated: August 24, 2009.
Christopher Cassel,
Acting Director, IA Subsidies Enforcement Office.

[FR Doc. E9-20824 Filed 8-27-09; 8:45 am]

BILLING CODE 3510-DS-S